DEPARTMENT OF TRANSPORTATION

Federal Aviation Administration

Agency Information Collection Activity Under OMB Review, Request for Comments; Renewal of an Approved Information Collection Activity, Part 65, Certification: Airmen Other Than Flight Crewmembers, Subpart C, Aircraft Dispatchers and App. A Aircraft Dispatcher Courses

AGENCY: Federal Aviation Administration (FAA), DOT.

ACTION: Notice and request for comments.

SUMMARY: The FAA invites public comments about our intention to request the Office of Management and Budget's (OMB) approval for a new information collection. The respondents to this information collection will be FAR Part 135 and Part 121 operators. The FAA will use the information to ensure compliance and adherence to the regulations.

DATES: Please submit comments by November 7, 2005.

FOR FURTHER INFORMATION CONTACT: Judy Street on (202) 267-9895.

SUPPLEMENTARY INFORMATION:

Federal Aviation Administration (FAA)

Title: Part 65, Certification: Airmen other than flight Crewmembers, Subpart C, Aircraft Dispatchers and App. A Aircraft Dispatcher Courses.

Type of Request: Renewal of an approved collection.

OMB Control Number: 2120-0648.

Forms(s): None.

Affected Public: A total of 36 airmen.

Frequency: The information is conducted on an as-needed basis.

Estimated Average Burden Per Response: 1 hour.

Estimated Annual Burden Hours: An estimated 4,679 hours annually.

Abstract: The respondents to this information collection will be FAR Part 135 and Part 121 operators. The FAA will use the information to ensure compliance and adherence to the regulations.

ADDRESSES: Send comments to the Office of Information and Regulatory Affairs, Office of Management and Budget, 725 17th Street, NW., Washington, DC 20503, Attention: FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on September 30, 2005.
Judith D. Street,
FAA Information Collection Clearance Officer, Information Systems and Technology Services Staff, ABA-20.

[FR Doc. 05-20177 Filed 10-6-05; 8:45 am]

BILLING CODE 4910-13-M